NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by September 18, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2014-007

1. Applicant: Daniel McGrath, Earth Vision Trust, Boulder Colorado.

Activity for Which Permit Is Requested

Waste Permit; The Earth Vision Trust proposes to install a maximum of 10 cameras distributed between 5 sites that are often visited by tourists. No more than 2 cameras would be installed at any one site. Cameras would be placed in such a way as to not disrupt wildlife. Cameras would be secured using 6-8 rock bolts drilled into rock outcrops. Each camera would be powered by a 10w solar panel and a sealed 12 volt 55 AH gel battery. The batteries would be housed in a leak proof plastic case. The cameras would remain deployed for 5 years and would be completely removed (including bolts and power sources) at the conclusion of the project. Each camera would be visited every 1-2 years to retrieve data, make necessary repairs, and remove non-functioning equipment. The cameras would be used to measure ice velocity and monitor the calving front of numerous outlet glaciers. The data would help advance scientific knowledge on the mechanics and pace of glacial retreat. Images gained from the cameras would also be used in global outreach campaigns to educate the public about the speed of climate change's impact on the earth.

Location

Five visitor sites in the Western Antarctic Peninsula Region: Paulet Island, Cierva Cove, Neko Harbor, Wiggins Glacier, and Gunnel Channel.

Dates

February 1, 2014 to March 31, 2019.

Nadene G. Kennedy,
Division of Polar Programs.

[FR Doc. 2013-20024 Filed 8-16-13; 8:45 am]

BILLING CODE 7555-01-P